DEPARTMENT OF VETERANS AFFAIRS

Scoping Notice for Preparation of a Programmatic Environmental Assessment for the Build-to-Suit Lease Program

AGENCY: Department of Veterans Affairs.

ACTION: Notice.

SUMMARY: The Department of Veterans Affairs (VA) is preparing a programmatic environmental assessment (PEA) in accordance with the regulations implementing the procedural provisions of the National Environmental Policy Act of 1969 (NEPA), as implemented by the Council on Environmental Quality regulations, and VA's NEPA Implementing Regulations.

DATES: Comments must be received on or before December 18, 2023. VA anticipates releasing the draft PEA for a 30-day public review and comment period in the first quarter of fiscal year 2024. VA will notify stakeholders via email/mail, publish a notice of availability of the draft PEA in the Federal Register and solicit comments at that time. The draft PEA will be available for review via the VA website: www.cfm.va.gov/environmental/.

ADDRESSES: Comments must be submitted through www.regulations.gov. Except as provided below, comments received before the close of the comment period will be available at www.regulations.gov for public viewing, inspection, or copying, including any personally identifiable or confidential business information that is included in a comment. We post the comments received before the close of the comment period on the following website as soon as possible after they have been received: http://www.regulations.gov. VA will not post on Regulations.gov public comments that make threats to individuals or institutions or suggest that the commenter will take actions to harm the individual. VA encourages individuals not to submit duplicative comments. We will post acceptable comments from multiple unique commenters even if the content is identical or nearly identical to other comments. Any public comment received after the comment period's closing date is considered late and will not be considered.

FOR FURTHER INFORMATION CONTACT: Mr. Jason Sturm, Environmental Engineer, Office of Construction & Facilities Management (003C2), Department of Veterans Affairs, 810 Vermont Avenue NW, Washington DC 20420, (224) 628-1946 (this is not a toll-free number), Jason.Sturm@va.gov. Reference “Build-to-Suit Lease PEA” in your correspondence.

SUPPLEMENTARY INFORMATION: The VA Office of Construction and Facilities Management, Office of Real Property supports VA's mission by, among other functions, leasing space for the construction of medical and medically related facilities to care for the Nation's Veterans.

The PEA will analyze the proposed construction, renovation, repair and operation of community-based outpatient clinics, community living centers and other similar leased medical facilities identified under the VA Office of Construction & Facilities Management, Office of Real Property build-to-suit program. The geographic scope of the PEA is all 50 states, the District of Columbia, the U.S. Virgin Islands, the Commonwealth of Puerto Rico, Guam, the Commonwealth of the Northern Mariana Islands, American Samoa and Tribal Lands. The PEA aims to provide a streamlined NEPA compliance process for those recurring, predictable, and low-impact construction, renovation or repair projects that would result in less than significant impacts.

This notice initiates the scoping process for the PEA and invites the public, government agencies and other interested persons and organizations to provide comments on the scope of issues for analysis, input on potential alternatives, or information/analyses relevant to the proposed action.

Use of the PEA would decrease the time and cost associated with having to prepare stand-alone NEPA documentation for those future build-to-suit lease projects that would meet the conditions of the PEA. VA would complete additional NEPA compliance as required on projects outside the parameters of the PEA.

The purpose of the proposed action is to provide eligible Veterans common medical services, assisted living care and related services. The proposed action is needed to address current and future projected health care gaps and operational inefficiencies, especially in rural areas where access to common medical services offered by Veterans Affairs Medical Centers is not an easily accessible option.

The PEA will evaluate the potential direct and indirect impacts on the human environment from the proposed action and alternatives. VA will make the Draft PEA available for a public comment period following its completion.

Signing Authority

Denis McDonough, Secretary of Veterans Affairs, approved and signed this document on November 13, 2023, and authorized the undersigned to sign and submit the document to the Office of the Federal Register for publication electronically as an official document of the Department of Veterans Affairs.

Jeffrey M. Martin,
Assistant Director, Office of Regulation Policy & Management, Office of General Counsel, Department of Veterans Affairs.

[FR Doc. 2023-25416 Filed 11-16-23; 8:45 am]

BILLING CODE 8320-01-P